DEPARTMENT OF LABOR

Employment and Training Administration

Post-Initial Determinations Regarding Eligibility To Apply for Trade Adjustment Assistance

In accordance with Sections 223 and 284 (19 U.S.C. 2273 and 2395) of the Trade Act of 1974 (19 U.S.C. 2271, et seq.) (“Act”), as amended, the Department of Labor herein presents Notice of Affirmative Determinations Regarding Application for Reconsideration, summaries of Negative Determinations Regarding Applications for Reconsideration, summaries of Revised Certifications of Eligibility, summaries of Revised Determinations (after Affirmative Determination Regarding Application for Reconsideration), summaries of Negative Determinations (after Affirmative Determination Regarding Application for Reconsideration), summaries of Revised Determinations (on remand from the Court of International Trade), and summaries of Negative Determinations (on remand from the Court of International Trade) regarding eligibility to apply for trade adjustment assistance under Chapter 2 of the Act (“TAA”) for workers by (TA-W) number issued during the period of 12/01/2019 through 12/31/2019. Post-initial determinations are issued after a petition has been certified or denied. A post-initial determination may revise a certification, or modify or affirm a negative determination.

Affirmative/Negative Determinations Regarding Applications for Reconsideration

The certifying officer may grant an application for reconsideration under the following circumstances: (1) If it appears on the basis of facts not previously considered that the determination complained of was erroneous; (2) If it appears that the determination complained of was based on a mistake in the determination of facts previously considered; or (3) If, in the opinion of the certifying officer, a misinterpretation of facts or of the law justifies reconsideration of the determination. See 29 CFR 90.18(c).

Affirmative Determinations Regarding Applications for Reconsideration

The following Applications for Reconsideration have been received and granted. See 29 CFR 90.18(d). The group of workers or other persons showing an interest in the proceedings may provide written submissions to show why the determination under reconsideration should or should not be modified. The submissions must be sent no later than ten days after publication in Federal Register to the Office of the Director, Office of Trade Adjustment Assistance, Employment and Training Administration, U.S. Department of Labor, Room N-5428, 200 Constitution Avenue NW, Washington, DC 20210. See 29 CFR 90.18(f).

TA-W No. | Subject firm | Location
95,054A | Goodman Company, L.P | Fayetteville, TN.
95,162 | Norfolk Southern Railway Company | Altoona, PA.
95,061 | United Steelworkers Local 8-676 | Westernport, MD.

Revised Certifications of Eligibility

The following revised certifications of eligibility to apply for TAA have been issued. The date following the company name and location of each determination references the impact date for all workers of such determination, and the reason(s) for the determination.

The following revisions have been issued.

TA-W No. | Subject firm | Location | Impact date | Reason(s)
94,427 | General Motors Lordstown Complex | Warren, OH | 3/8/2019 | Worker Group Clarification.
94,427A | Ryder Integrated Logistics, Inc | Warren, OH | 12/21/2017 | Worker Group Clarification.
93,543 | Ocwen Loan Servicing, LLC | Waterloo, IA | 4/19/2018 | Worker Group Clarification.
93,939 | Owens-Brockway Glass Container Inc | Atlanta, GA | 6/28/2017 | Worker Group Clarification.
93,939A | Owens-Brockway Glass Container, Inc | Waco, TX | 6/28/2017 | Worker Group Clarification.
93,939B | Owens-Brockway Glass Container, Inc | Portland, OR | 6/28/2017 | Worker Group Clarification.

I hereby certify that the aforementioned determinations were issued during the period of 12/01/2019 through 12/31/2019. These determinations are available on the Department's website https://www.doleta.gov/tradeact/petitioners/taa_search_form.cfm under the searchable listing determinations or by calling the Office of Trade Adjustment Assistance toll free at 888-365-6822.

Signed at Washington, DC, this 9th day of January 2020.
Hope D. Kinglock,
Certifying Officer, Office of Trade Adjustment Assistance.

[FR Doc. 2020-01507 Filed 1-28-20; 8:45 am]

BILLING CODE 4510-FN-P